NUCLEAR REGULATORY COMMISSION

[Docket No. 50-341; NRC-2014-0109]

DTE Electric Company; Fermi Nuclear Power Plant, Unit 2

AGENCY: Nuclear Regulatory Commission.

ACTION: License renewal and record of decision; issuance.

SUMMARY: The U.S. Nuclear Regulatory Commission (NRC) issued a renewal of Facility Operating License No. NPF-43, held by DTE Electric Company (DTE or the licensee), for the continued operation of Fermi Nuclear Power Plant, Unit 2 (Fermi 2). The renewed facility operating license No. NPF-43 authorizes operation of Fermi 2 at reactor core power level not in excess of 3,486 megawatts thermal (approximately 1170 megawatts electric), in accordance with the provisions of the renewed license and technical specifications. In addition, the NRC has prepared a record of decision (ROD) that supports the decision to renew facility operating license No. NPF-43.

DATES: The renewed operating license No. NPF-43 is effective on December 15, 2016.

ADDRESSES: Please refer to Docket ID NRC-2014-0109 when contacting the NRC about the availability of information regarding this document. You may obtain publicly-available information related to this document using any of the following methods:

• Federal Rulemaking Web site: Go to http://www.regulations.gov and search for Docket ID NRC-2014-0109. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Lois James, Office of Nuclear Reactor Regulation, U.S. Nuclear Regulatory Commission, Washington, DC 20555-0001; telephone: 301-415-3306; email: Lois.James@nrc.gov.

SUPPLEMENTARY INFORMATION: The NRC has issued renewed Facility Operating License No. NPF-43, held by the licensee, which authorizes continued operation of Fermi 2 at reactor core power levels not in excess of 3,486 megawatts thermal, in accordance with the provisions of the renewed license and technical specifications. The ROD that supports the decision to renew Facility Operating License No. NPF-43 is available in ADAMS under Accession No. ML16270A567.

As discussed in the ROD and the final supplemental environmental impact statement (FSEIS) for Fermi 2 Nuclear Power Plant, Supplement 56 to NUREG-1437, “Generic Environmental Impact Statement for License Renewal of Nuclear Plants, Regarding Fermi 2 Nuclear Power Plant,” dated September 2016 (ADAMS Accession No. ML16259A103 for Volume 1 and ML16259A109 for Volume 2), the NRC considered a range of reasonable alternatives that included natural gas combined-cycle (NGCC); coal-integrated gasification combined-cycle; new nuclear power; and a combination of NGCC, wind, and solar power. The ROD and FSEIS document the NRC's determination that the adverse environmental impacts of license renewal for Fermi 2 are not so great that preserving the option of license renewal for energy planning decision makers would be unreasonable.

Fermi 2 is a single-unit, boiling water reactor and is located in Frenchtown Township, Michigan. The application for the renewed license, “Fermi 2 License Renewal Application,” dated April 24, 2014 (ADAMS Package Accession No. ML14121A554), as supplemented by letters dated through July 6, 2016, complied with the standards and requirements of the Atomic Energy Act of 1954, as amended (the Act), and the NRC's regulations. As required by the Act and the NRC's regulations in chapter I of title 10 of the Code of Federal Regulations, the NRC has made appropriate findings, which are set forth in the license. A public notice of the proposed issuance of the renewed license and an opportunity for a hearing was published in the Federal Register on June 18, 2014 (79 FR 34787).

For further details with respect to this action, see: (1) DTE Electric Company license renewal application for Fermi 2, dated April 24, 2014, as supplemented by letters dated through July 6, 2016; (2) the NRC's safety evaluation report dated July 2016 (ADAMS Accession No. ML16190A241); (3) the NRC's final environmental impact statement (NUREG-1437, Supplement 56), for Fermi 2, published in September 2016 (ADAMS Accession No. ML16259A103 for Volume 1 and ML16259A109 for Volume 2); and (4) the NRC's ROD (ADAMS Accession No. ML16270A567).

Dated at Rockville, Maryland, this 15 day of December, 2016.
For the U.S. Nuclear Regulatory Commission,
Benjamin G. Beasley,
Acting Deputy Director, Division of License Renewal, Office of Nuclear Reactor Regulation.

[FR Doc. 2016-30862 Filed 12-21-16; 8:45 am]

BILLING CODE 7590-01-P